DEPARTMENT OF EDUCATION

Notice of Submission for OMB Review; Office of Postsecondary Education; Application for the Fulbright-Hays Seminars Abroad Program

SUMMARY: This application package will be used by applicants to the Fulbright-Hays Seminars Abroad Program, which provides opportunities for U.S. educators to participate in short-term study seminars abroad in the social sciences, social studies and humanities.

DATES: Interested persons are invited to submit comments on or before May 16, 2012.

ADDRESSES: Written comments regarding burden and/or the collection activity requirements should be electronically mailed to ICDocketMgr@ed.gov or mailed to U.S. Department of Education, 400 Maryland Avenue SW, LBJ, Washington, DC 20202-4537. Copies of the proposed information collection request may be accessed from http://edicsweb.ed.gov, by selecting the “Browse Pending Collections” link and by clicking on link number 04821. When you access the information collection, click on “Download Attachments” to view. Written requests for information should be addressed to U.S. Department of Education, 400 Maryland Avenue SW., LBJ, Washington, DC 20202-4537. Requests may also be electronically mailed to ICDocketMgr@ed.gov or faxed to 202-401-0920. Please specify the complete title of the information collection and OMB Control Number when making your request.

Individuals who use a telecommunications device for the deaf (TDD) may call the Federal Information Relay Service (FIRS) at 1-800-877-8339.

SUPPLEMENTARY INFORMATION: Section 3506 of the Paperwork Reduction Act of 1995 (44 U.S.C. Chapter 35) requires that Federal agencies provide interested parties an early opportunity to comment on information collection requests. The Director, Information Collection Clearance Division, Privacy, Information and Records Management Services, Office of Management, publishes this notice containing proposed information collection requests at the beginning of the Departmental review of the information collection. The Department of Education is especially interested in public comment addressing the following issues: (1) Is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: Application for the Fulbright-Hays Seminars Abroad Program.

OMB Control Number: 1840-0501.

Type of Review: Extension .

Total Estimated Number of Annual Responses: 400.

Total Estimated Number of Annual Burden Hours: 7,200.

Abstract: The purpose of the program is for educators to obtain knowledge and disseminate that knowledge through a curriculum development project. The application is necessary in order for the Department to award funds under this program. Information submitted by applicants is used to evaluate potential program participants. Applicants are individual educators at the elementary, secondary and postsecondary levels.

This information collection is being submitted under the Streamlined Clearance Process for Discretionary Grant Information Collections (1894-0001). Therefore, the 30-day public comment period notice will be the only public comment notice published for this information collection.

Dated: April 10, 2012.
Darrin A. King,
Director, Information Collection Clearance Division, Privacy, Information and Records Management Services, Office of Management.

[FR Doc. 2012-9002 Filed 4-13-12; 8:45 am]

BILLING CODE 4000-01-P